DEPARTMENT OF ENERGY

Federal Energy Regulatory Commission

[Docket No. CP19-193-000]

Columbia Gulf Transmission, LLC; Notice of Request for Extension of Time

Take notice that on October 26, 2021, Columbia Gulf Transmission, LLC (Columbia Gulf) requested that the Federal Energy Regulatory Commission (Commission) grant an extension of time, until November 15, 2022, in order to place the replacement facilities of the Mainline 100 and Mainline 200 Replacement Project (Project) into service, in Menifee and Montgomery Counties, Kentucky, as authorized as part of Columbia Gulf's Project in the November 15, 2019 Order Granting Certificate and Approving Abandonment ¹ (November 15 Order). The November 15 Order required Columbia Gulf to complete construction and make the facilities available for service within one year of the order date.

¹ Columbia Gulf Transmission, LLC, 169 FERC ¶ 62,084 (2019).

On July 7, 2020, Columbia Gulf requested an extension of time until November 15, 2021 to place the replacement facilities into service, to allow additional time for the U.S. Department of Transportation (“DOT”) to reach a decision on Columbia Gulf's application for a special permit. The special permit would allow Columbia Gulf to operate the segments of Mainline 100 and 200 proposed for replacement as part of the Project at the current MAOP without pipe replacement work or further action to maintain compliance with DOT regulations. On August 6, 2020, the Commission granted Columbia Gulf an extension of time until November 15, 2021.

The special permit application Columbia Gulf submitted to DOT on October 15, 2019 has yet to receive a determination. In order to provide DOT with additional time necessary to make a determination on Columbia Gulf's special permit application, Columbia Gulf respectfully requests a further extension of time to and including November 15, 2022, to place the replacement facilities into service. Upon receipt of the special permit, Columbia Gulf would, pursuant to Rule 212 of the Rules of Practice and Procedures of the Commission, 18 CFR 385.212, Columbia Gulf would submit a Motion to Vacate the authorizations granted in the November 15 Order with respect to the Mainline 100 and Mainline 200 Replacement Project. If unsuccessful in obtaining the special permit, Columbia Gulf would notify the Commission of its intent to begin construction of the Project to comply with DOT requirements and submit a revision to its Implementation Plan reflecting an updated construction schedule.

This notice establishes a 15-calendar day intervention and comment period deadline. Any person wishing to comment on Columbia Gulf's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 16, 2021.

Dated: November 1, 2021.
Kimberly D. Bose,
Secretary.

[FR Doc. 2021-24229 Filed 11-4-21; 8:45 am]

BILLING CODE 6717-01-P